DEPARTMENT OF ENERGY

Federal Energy Regulatory Commission

[Project No. 12379-000]

Lake Dorothy Hydro, Inc., Alaska; Notice of Ava

July 24, 2003.

In accordance with the National Environmental Policy Act of 1969 and the Federal Energy Regulatory Commission's (Commission) regulations, 18 CFR part 380 (Order No. 486; 52 FR 47897), the staff of the Office of Energy Projects has reviewed the application for license for the Lake Dorothy Hydroelectric Project, located at Lake Dorothy on Dorothy Creek, near Juneau, Alaska, and has prepared a Final Environmental Assessment (FEA) for the project. The project would occupy approximately 1,790 acres of land within the Tongass National Forest administered by the U.S. Forest Service.

On June 4, 2003, the Commission staff issued a draft environmental assessment (DEA) for the project and requested that comments be filed with the Commission within 30 days. Comments on the DEA were filed by July 3, 2003, and are addressed in the FEA.

The FEA contains the staff's analysis of the potential environmental impacts of the project and concludes that licensing the project, with appropriate environmental protective measures, would not constitute a major federal action that would significantly affect the quality of the human environment.

A copy of the FEA is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

You may also register online at http://www.ferc.gov/esubscribenow.htm to be notified via email of new filings and issuances related to this or other pending projects. For assistance, contact FERC Online Support.

Magalie R. Salas,
Secretary.

[FR Doc. 03-19388 Filed 7-30-03; 8:45 am]

BILLING CODE 6717-01-P